FEDERAL RESERVE SYSTEM

[FR 4004; OMB No. 7100-0112]

Agency Information Collection Activities: Announcement of Board Approval Under Delegated Authority and Submission to OMB

AGENCY: Board of Governors of the Federal Reserve System.

SUMMARY: The Board of Governors of the Federal Reserve System (Board) is adopting a proposal to extend for three years, without revision, the Written Security Program for State Member Banks.

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Written Security Program for State Member Banks.

Agency form number: FR 4004.

OMB control number: 7100-0112.

Frequency: On occasion.

Respondents: State member banks.

Estimated number of respondents: 14.

Estimated average hours per response: 1.

Estimated annual burden hours: 14.

General description of report: This information collection arises from a recordkeeping requirement contained in section 208.61 of the Board's Regulation H, Membership of State Banking Institutions in the Federal Reserve System (12 CFR 208), which requires each state member bank to develop and maintain a written security program for the bank's main office and branches within 180 days of becoming a member of the Federal Reserve System.

Legal authorization and confidentiality: Section 3 of the Bank Protection Act of 1968 authorizes the FR 4004 recordkeeping requirement.¹ The FR 4004 is mandatory.

¹ 12 U.S.C. 1882(a) (requiring federal banking agencies, including the Board, to issue rules establishing minimum standards for banks with respect to the installation, maintenance, and operation of security devices and procedures to discourage robberies, burglaries, and larcenies and to assist in the identification and apprehension of persons who commit such acts).

Entities subject to the FR 4004 recordkeeping requirement generally are not required to provide such information to the Board. If the Board obtained information retained pursuant to the FR 4004 as part of an examination or supervision of a financial institution, it may be considered confidential under exemption 8 of the Freedom of Information Act (FOIA).² Information provided under the FR 4004 may also be kept confidential under FOIA exemption 4 as confidential commercial or financial information that is both customarily and actually treated as private.³

² 5 U.S.C. 552(b)(8).

³ 5 U.S.C. 552(b)(4).

Current actions: On November 23, 2021, the Board published a notice in the Federal Register (86 FR 66559) requesting public comment for 60 days on the extension, without revision, of the Written Security Program for State Member Banks. The comment period for this notice expired on January 24, 2022. The Board did not receive any comments.

Board of Governors of the Federal Reserve System, February 24, 2022.
Michele Taylor Fennell,
Deputy Associate Secretary of the Board.

[FR Doc. 2022-04348 Filed 3-1-22; 8:45 am]

BILLING CODE 6210-01-P